DEPARTMENT OF TRANSPORTATION

Federal Aviation Administration

14 CFR Part 39

[Docket No. 2001-CE-19-AD; Amendment 39-12471; AD 2001-21-01]

RIN 2120-AA64

Airworthiness Directives; Dornier Luftfahrt GmbH Models 228-100, 228-101, 228-200, 228-201, 228-202, and 228-212 Airplanes

AGENCY: Federal Aviation Administration, DOT.

ACTION: Final rule.

SUMMARY: This amendment adopts a new airworthiness directive (AD) that applies to certain Dornier Luftfahrt GmbH (Dornier) Models 228-100, 228-101, 228-200, 228-201, 228-202, and 228-212 airplanes. This AD requires you to repetitively inspect the horizontal stabilizer skin and ribs for damage and cracks and repair any damaged skin or cracked ribs. This AD is the result of mandatory continuing airworthiness information (MCAI) issued by the airworthiness authority for Germany. The actions specified by this AD are intended to detect and correct damage and fatigue cracks in the horizontal stabilizer skin and ribs. This condition could cause in-flight separation of the horizontal stabilizer skin with consequent loss of control of the airplane.

DATES: This AD becomes effective on November 30, 2001.

The Director of the Federal Register approved the incorporation by reference of certain publications listed in the regulations as of November 30, 2001.

ADDRESSES: You may get the service information referenced in this AD from Fairchild/Dornier, Customer Support, P.O. Box 1103, D-82230 Wessling, Federal Republic of Germany; telephone: (011) 49 8153 300; facsimile: (011) 49 8153 304463. You may view this information at the Federal Aviation Administration (FAA), Central Region, Office of the Regional Counsel, Attention: Rules Docket No. 2001-CE-19-AD, 901 Locust, Room 506, Kansas City, Missouri 64106; or at the Office of the Federal Register, 800 North Capitol Street, NW, suite 700, Washington, DC.

FOR FURTHER INFORMATION CONTACT: Karl Schletzbaum, Aerospace Engineer, FAA, Small Airplane Directorate, 901 Locust, Room 301, Kansas City, Missouri 64106; telephone: (816) 329-4146; facsimile: (816) 329-4090.

SUPPLEMENTARY INFORMATION:

Discussion

What Events Have Caused This AD?

The Luftfahrt-Bundesamt (LBA), which is the airworthiness authority for Germany, recently notified the FAA that an unsafe condition may exist on certain Dornier Models 228-100, 228-101, 228-200, 228-201, 228-202, and 228-212 airplanes. The LBA reports two occurrences of cracks found around the riveted joints of the leading edge skin and ribs of the horizontal stabilizer during an inspection. The LBA reports that the cracks are caused by corrosion and material fatigue.

What Is the Potential Impact if FAA Took No Action?

If this condition is not detected and corrected, in-flight separation of the horizontal stabilizer skin could result with consequent loss of control of the airplane.

Has FAA Taken Any Action to This Point?

We issued a proposal to amend part 39 of the Federal Aviation Regulations (14 CFR part 39) to include an AD that would apply to certain Dornier Models 228-100, 228-101, 228-200, 228-201, 228-202, and 228-212 airplanes. This proposal was published in the Federal Register as a notice of proposed rulemaking (NPRM) on August 21, 2001 (66 FR 43815). The NPRM proposed to require you to inspect the horizontal stabilizer ribs for cracks; inspect the horizontal stabilizer skin for cracks and damage around the riveted joints; repair or replace any cracked ribs; and repair any damaged skin.

Is There a Modification I Can Incorporate Instead of Repetitively Inspecting the Horizontal Stabilizer Structure?

The FAA has determined that long-term continued operational safety would be better assured by design changes that remove the source of the problem rather than by repetitive inspections or other special procedures. With this in mind, we will continue to work with Dornier in collecting information and in performing fatigue analysis to determine whether a future design change may be necessary.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 14 airplanes in the U.S. registry.

What Is the Cost Impact of This AD on Owners/Operators of the Affected Airplanes?

We estimate the following costs to accomplish the inspection:

Labor cost | Parts cost | Total cost per airplane | Total cost on U.S. operators
4 workhours × $60 per hour = $240 | No parts required for the inspection | $240 | $240 × 14 = $3,360

We have no method of determining the number of repetitive inspections each owner/operator will incur over the life of each of the affected airplanes so the cost impact is based on the initial inspection.

We have no method of determining the number of repairs or replacements each owner/operator will incur over the life of each of the affected airplanes based on the results of the inspections. We have no way of determining the number of airplanes that may need such repair. The extent of damage may vary on each airplane.

Compliance Time of This AD

What Is the Compliance Time of This AD?

The compliance time of this AD will be to accomplish the initial inspection “within the next 100 hours time-in-service (TIS) after the effective date of this AD”, repetitive inspections at “intervals not to exceed 100 hours TIS”, and any necessary repairs or replacements “prior to further flight after the inspection.”

Why Is the Initial Inspection Compliance Time of the German AD Different From the Initial Inspection Compliance Time in This AD?

The German AD requires (on Dornier Models 228-100, 228-101, 228-200, 228-201, 228-202, and 228-212 airplanes registered in Germany) the initial inspection within the next 10 flight hours. This is the compliance time specified in the service information. We do not have justification to require the initial inspection within 10 flight hours. We use a compliance time such as this when we have identified an urgent safety of flight situation. We believe that 100 hours TIS will give the owners/operators of the affected airplanes enough time to have the initial inspection and repairs and/or replacements accomplished without compromising the safety of the airplanes.

By accomplishing both the initial inspection and replacement at the same time, the owners/operators of the affected airplanes only have their airplanes out of service once instead of twice.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-21-01 Dornier Luftfahrt GMBH: Amendment 39-12471; Docket No. 2001-CE-19-AD.

(a) What airplanes are affected by this AD? This AD affects the following airplane models and serial numbers that are certificated in any category;

Model | Serial Nos.
228-100 | 7003 through 7116, 7167 and 7168.
228-101 | 7003 through 7116, 7167 and 7168.
228-200 | All serial numbers beginning with 8002.
228-201 | All serial numbers beginning with 8002.
228-202 | All serial numbers beginning with 8002.
228-212 | All serial numbers beginning with 8002.

(b) Who must comply with this AD? Anyone who wishes to operate any of the above airplanes must comply with this AD.

(c) What problem does this AD address? The actions specified by this AD are intended to detect and correct damage and fatigue cracks in the horizontal stabilizer skin and ribs. This condition could cause in-flight separation of the horizontal stabilizer skin with consequent loss of control of the airplane.

(d) What actions must I accomplish to address this problem? To addreess this problem, you must accomplish the following:

Actions | Compliance | Procedures
Perform the following inspections: (i) Inspect, using a boroscope (or equivalent), the horizontal stabilizer ribs for cracks (ii) Inspect the horizontal stabilizer skin for damage (cracks and/or loose rivets) | Within the next 100 hours time-in-service (TIS) after November 30, 2001 (the effective date of this AD), and thereafter at intervals not-to-exceed 100 hours TIS | In accordance with the ACCOMPLISHMENT INSTRUCTIONS section of Fairchild/Dornier Service Bulletin No. SB-228-234, dated October 13, 2000, and the applicable aircraft maintenance manual.
(2) Repair or replace any cracked rib and repair any damage to he horizontal stabilizer skin found during any inspection required in paragraph (d)(1) of this AD | Prior to further flight after the inspection required in paragraph (d)(1) of this AD | In accordance with the applicable structural repair manual.
(3) Report any cracks or damage found during the initial inspections required in paragraph (d)(1)(i) and (d)(1)(ii) of this AD to Fairchild/Dornier Customer Support, through the FAA. Information collection requirements contained in this regulation have been approved by the Office of Management and Budget (OMB) under the provisions of the Paperwork Reduction Act of 1980 (44 U.S.C. 3501 et seq.) and have been assigned OMB Control Number 2120-0056 | Prior to further flight after the applicable inspection required in paragraph (d)(1) of this AD, or within 10 days after November 30, 2001 (the effective date of this AD), whichever occurs later | In accordance with the ACCOMPLISHMENT INSTRUCTIONS section of Fairchild/Dornier Service Bulletin No. SB-228-234, dated October 13, 2000. Fill out the compliance form. Send it to Fair/Dornier at the address specified in paragraph (h) of this AD and send a copy to FAA at the address in paragraph (f) of this AD.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Karl Schletzbaum, Aerospace Engineer, FAA, Small Airplane Directorate, 901 Locust, Room 301, Kansas City, Missouri 64106; telephone: (816) 329-4146; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Fairchild/Dornier Service Bulletin No. SB-228-234, dated October 13, 2000. The Director of the Federal Register approved this incorporation by reference under 5 U.S.C. 552(a) and 1 CFR part 51. You can get copies from Fairchild/Dornier, Customer Support, P.O. Box 1103, D-82230 Wessling, Federal Republic of Germany. You can look at copies at the FAA, Central Region, Office of the Regional Counsel, 901 Locust, Room 506, Kansas City, Missouri, or at the Office of the Federal Register, 800 North Capitol Street, NW., suite 700, Washington, DC.

(i) When does this amendment become effective? This amendment becomes effective on November 30, 2001.

Note 2: The subject of this AD is addressed in German AD Number 2001-045, dated January 26, 2001.

Issued in Kansas City, Missouri, on October 9, 2001.
Michael Gallagher,
Manager, Small Airplane Directorate, Aircraft Certification Service.

[FR Doc. 01-26001 Filed 10-18-01; 8:45 am]

BILLING CODE 4910-13-P